DEPARTMENT OF AGRICULTURE

Forest Service

Fish Creek Watershed Projects, Umpqua National Forest, Douglas County, OR

AGENCY: Forest Service, USDA.

ACTION: Notice of intent to prepare an environmental impact statement.

SUMMARY: The USDA Forest Service, will prepare an Environmental Impact Statement (EIS) for a variety of connected and similar resource projects within the Fish Creek watershed planning area of the Diamond Lake Ranger District. These projects include several timber sales, the construction of temporary roads, rock source development, spring rehabilitation, trailhead relocation, wildlife enhancement, site preparation, planting, fuels hazard reduction, road decommissioning, precommercial thinning, instream wood placement, and soil restoration. The planning area is located approximately 65 miles east of Roseburg, Oregon. If the proposed alternative or another action alternative is selected, projects within the selected action are expected to be implemented sometime during 2003 through 2008. The agency gives notice of the full environmental analysis and decision-making process that will occur on the proposal so that interested and affected people may become aware of how they can participate in the process and contribute to the final decision.

DATES: Comments concerning the scope of the analysis should be received in writing, by June 29, 2001.

ADDRESSES: Send written comments and suggestions concerning this proposal to John Ouimet, District Ranger, Diamond Lake Ranger District, 2020 Toketee Ranger Station Road, Idleyld Park, OR 97447-9704.

FOR FURTHER INFORMATION: Direct questions about the proposed actions, or EIS to Pat Williams, ID Team Leader/Timber Sale Planner, Diamond Lake Ranger District, 2020 Toketee Ranger Station Road, Idleyld Park, OR 97447-9704, or (541) 498-2531.

SUPPLEMENTARY INFORMATION: The area being analyzed in the Fish Creek Watershed Projects EIS encompasses approximately 53,578 acres of National Forest land on the Diamond Lake Ranger District. The planning area is located south of the North Umpqua River, north of the Rogue-Umpqua Divide, east of Copeland Creek, and west of Mount Bailey, within Douglas County, Oregon.

Timber sale harvest activity proposals are based on the need to achieve the objectives for matrix lands within Management Areas 10 and 11 of the planning area, as described in the 1990 Umpqua National Forest Land and Resource Management Plan (LRMP), as amended by the 1994 Record of Decision (ROD) for Amendments to Forest Service and Bureau of Land Management Planning Documents Within the Range of the Northern Spotted Owl. Objectives for matrix lands are described on page B-1 of the ROD. The ROD states, “Production of timber and other commodities is an important objective for the Matrix.” The ROD also states on Page B-2 and B-6 that one of the objectives of matrix is to provide ecological diversity at the landscape scale in the form of early-successional habitat through commercial timber harvest. The main objective for Management Area 10 is to supply timber to local and regional economies on a cost efficient, sustainable basis. The objectives for Management Area 11 are to provide big game winter range habitat and timber production consistent with other resource objectives for wildlife habitat, riparian habitat and water quality, visual quality, and recreation.

Fish Creek Watershed Projects proposed actions are also based on the need to achieve the desired conditions for the planning area recommended in the 1999 Fish Creek Watershed Analysis. Timber harvest proposals are based on the need to maintain a high level of vegetative diversity in both structure and pattern within the watershed over time, by approximating large and small scale natural disturbance processes and patterns through even and uneven aged silvicultural treatments. Proposed natural fuels prescriptions are based on the need to move the planning area from a high severity fire regime towards a moderate severity fire regime. Rehabilitation of soils through sub-soiling is based on the need to improve the long term site productivity and water infiltration within managed stands that have been adversely affected by past management practices. Relocation of three trailheads is based on the need to provide adequate parking for forest visitors that are using trail systems. Spring rehabilitation is based on the need to improve the hydrologic function of the area and reduce potential soil erosion in the area. Wildlife enhancement projects are based on the need to improve wildlife habitat conditions within the watershed. Instream wood placement is based on the need to improve aquatic habitat where large woody debris has been removed or is otherwise absent or deficient. Pre-commercial thinning is based on the need to increase stand growth and vigor of overstocked managed stands. Road reconstruction/maintenance and decommissioning is based on the need to reduce the risk to the aquatic resources from road related erosional processes. Expansion of existing rock sources within the Fish Creek watershed is based on the need to have available rock resources for reconstructing or maintaining existing road systems in the area.

Timber sale related activities include: regeneration harvest on 422 acres, with 15% green-tree retention in the form of leave groups and dispersed mature trees; and intermediate harvest in the form of commercial thinning on 834 acres; uneven aged management in the form of partial cutting and small group harvest (2-5 acres) on 145 acres; reforestation and seedling protection on 498 acres; site preparation/fuels reduction on 1,401 acres; reconstruction/maintenance of 61 miles of existing roads; construction of 16 miles of temporary roads with subsequent obliteration; construction of 12 permanent helicopter landings; and the expansion of two existing rock pits by 2 acres. The acreage proposed for harvest is estimated to yield 33.1 million board feet of timber. If the proposed action ultimately becomes the preferred alternative, harvest of the total acreage (1,401) is likely to be accomplished via five timber sales. The areas prescribed for harvest will require a combination of helicopter, skyline and ground-based harvesting equipment.

Restoration related activities include: 35.2 miles of road decommissioning; three trailhead relocations; spring/riparian zone rehabilitation; construction of 5 artificial den structures for small mammals; 61 acres of big game winter range forage enhancement and noxious weed control; reduction of conifer encroachment on seven meadows totaling 110 acres; construction of nesting structures in 8 trees for great gray owls; construction of rock dens for small mammals and reptiles at 4 depleted rock quarries; recruitment of large woody material within timber sale harvest units; 1100 acres of site productivity restoration; 11.6 miles of instream log placement; 2,400 acres of precommercial thinning; and fuels hazard reduction on 1,230 acres. Most of these activities will be funded through the Knutson-Vandenberg Program timber sale collections.

As part of the environmental analysis process under the National Environmental Policy Act, the Umpqua National Forest has begun the scoping process for this project. Preliminary issues identified to date include the following: How will the public respond to reduced travel and trail access within the watershed? How will the public respond to the harvest of old growth stands within the watershed?

The scoping effort is intended to identify issues, which may lead to the development of alternatives to the proposed actions. One of the purposes of this notice of intent is to solicit input from the public as part of the overall scoping effort. In addition to this notice, the public has been notified of the environmental impact statement through the Umpqua National Forest's April 2001 Schedule of Proposed Actions (SOPA). Scoping for this project will also include a public field trip in the Fish Creek watershed on June 9, 2001. Based on the preliminary issues, the Responsible Official has determined that it is appropriate to proceed with an environmental impact statement.

Public comments are appreciated throughout the analysis process. The draft EIS is expected to be filed with the Environmental Protection Agency (EPA) and be available for public review by December 2001. The comment period on the draft EIS will be 45 days from the date the EPA publishes the notice of availability in the Federal Register. The final EIS is scheduled to be available in March 2002.

The Forest Service believes it is important to give reviewers notice of this early stage of public participation and of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could have been raised at the draft stage may be waived or dismissed by the court if not raised until after completion of the final EIS. City of Angoon v. Hodel, 803 f.2d 1016, 1022 (9th Cir, 1986) and Wisconsin Heritages, Inc. v. Harris, 490 F. Supp. 1334, 1338 (E.D. Wis. 1980). Because of these court rulings, it is very important that those interested in this proposed action participate by the close of the 45-day comment period so substantive comments and objections are made available to the Forest Service at a time when it can meaningfully consider and respond to them in the final EIS.

To assist the Forest Service in identifying and considering issues and concerns on the proposed actions, comments on the draft EIS should be as specific as possible. It is also helpful if comments refer to specific pages or chapters of the draft statement. Comments may also address the adequacy of the draft EIS or the merits of the alternatives formulated and discussed in the statement. (Reviewers may wish to refer to the Council on Environmental Quality Regulations for implementing the procedural provisions of the National Environmental Policy Act of 40 CFR 1503.3 in addressing these points.)

In the final EIS, the Forest Service is required to respond to substantive comments and responses received during the comment period that pertain to the environmental consequences discussed in the draft EIS and applicable laws, regulations, and policies considered in making a decision regarding the proposal. The Responsible Official is Don Ostby, Forest Supervisor for the Umpqua National Forest. The Responsible Official will document the decision and rationale for the decision in a Record of Decision. The decision will be subject to appeal regulations (36 CFR part 215).

Dated: May 22, 2001.
Don Ostby,
Forest Supervisor, Umpqua National Forest.

[FR Doc. 01-13732 Filed 5-31-01; 8:45 am]

BILLING CODE 3410-11-M